DEPARTMENT OF COMMERCE

National Oceanic and Atmospheric Administration

RIN 0648-XD149

Gulf of Mexico Fishery Management Council; Public Hearings

AGENCY: National Marine Fisheries Service (NMFS), National Oceanic and Atmospheric Administration (NOAA), Commerce.

ACTION: Notice; public hearings.

SUMMARY: The Gulf of Mexico Fishery Management Council (Council) will hold public hearings for Red Snapper Allocation—Amendment 28.

DATES: The public hearings will be held from Monday, March 10 through Monday, March 24, 2014 at nine locations throughout the Gulf of Mexico. The public hearings will begin at 6 p.m. and will conclude no later than 9 p.m. There will be a “call-in session” on Thursday March 20th; instructions will be available on our Web site. For specific dates and locations, see SUPPLEMENTARY INFORMATION below.

ADDRESSES: Meeting address: The public hearings will be held in the following locations: Orange Beach and Mobile, AL; Gulfport, MS; Panama City and St. Petersburg, FL; Kenner, LA; and Corpus Christi, San Antonio and League City/Webster, TX.

Council address: Gulf of Mexico Fishery Management Council, 2203 North Lois Avenue, Suite 1100, Tampa, FL 33607.

FOR FURTHER INFORMATION CONTACT: Dr. Assane Diagne, Economist, Gulf of Mexico Fishery Management Council; telephone: (813) 348-1630; fax: (813) 348-1711; email: assane.diagne@gulfcouncil.org.

SUPPLEMENTARY INFORMATION: The items of discussion in the public hearings are as follows:

Red Snapper Allocation—Amendment 28

Consider the reallocation of red snapper resources between the commercial and recreational sectors.

The public hearings will begin at 6 p.m. and conclude at the end of public testimony or no later than 9 p.m. at the following locations:

Monday, March 10, 2014, Fairfield Inn & Suites by Marriott, 3111 Loop Road, Orange Beach, AL 36561, (251) 543-4444;

Tuesday, March 11, 2014, Renaissance Riverview Plaza Hotel, 64 South Water Street, Mobile, AL 36602, (251) 438-4000;

Wednesday, March 12, 2014, Holiday Inn Select, 2001 N. Cove Boulevard, Panama City, FL 32405, (850) 769-0000; Courtyard Marriott Gulfport Beachfront, 1600 East Beach Boulevard, Gulfport, MS 39501, (228) 864-4310;

Thursday, March 13, 2014, La Quinta Inn & Suites New Orleans Airport, 2610 Williams Boulevard, Kenner, LA 70062, (504) 466-1401;

Monday, March 17, 2014, Hilton Garden Inn, 6717 South Padre Island Drive, Corpus Christi, TX 78412, (361) 991-8200;

Tuesday, March 18, 2014, Embassy Suites San Antonio International Airport, 10110 US Hwy 281 N., San Antonio, TX 78216 (201) 525-9999;

Wednesday, March 19, 2014, Hilton Garden Inn Houston/Clear Lake NASA, 750 W. Texas Avenue, Webster, TX 77598, (281) 332-6284;

Thursday, March, 20, 2014, call-in session; visit www.GulfCouncil.org for instructions.

Monday, March 24, 2014, Hilton Carillon St. Petersburg, 950 Lake Carillon Drive, St. Petersburg, FL 33716, (727) 540-0050.

Copies of the public hearing documents can be obtained by calling 813-348-1630 or visiting www.GulfCouncil.org.

Although non-emergency issues not contained in this agenda may come before this group for discussion, those issues may not be the subject of formal action during these hearings. Action will be restricted to those issues specifically identified in this notice and any issues arising after publication of this notice that require emergency action under section 305(c) of the Magnuson-Stevens Fishery Conservation and Management Act, provided the public has been notified of the Council's intent to take final action to address the emergency.

Special Accommodations

These hearings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 20, 2014.
Tracey L. Thompson,
Acting Deputy Director, Office of Sustainable Fisheries, National Marine Fisheries Service.

[FR Doc. 2014-04070 Filed 2-25-14; 8:45 am]

BILLING CODE 3510-22-P